DEPARTMENT OF HEALTH AND HUMAN SERVICES

Administration for Children and Families

[CFDA Number: 93.612]

Announcement of the Award of a Single-Source Grant to the Native American Fatherhood and Families Association (NAFFA) in Mesa, AZ

AGENCY: Administration for Native Americans, ACF, HHS.

ACTION: Announcement of the award of a single-source grant to Native American Fatherhood and Families Association (NAFFA) in Mesa, AZ, to support activities promoting Responsible Fatherhood in Native American communities.

SUMMARY: The Administration for Children and Families (ACF), Administration for Native Americans (ANA) announces the award of a cooperative agreement in the amount of $250,000 to the Native American Fatherhood and Families Association (NAFFA) in Mesa, AZ to conduct a national outreach campaign focused on promoting the importance of fatherhood in Native communities. Included in the national outreach campaign will be a national conference, regional workshops, webinars, and a Native American Responsible Fatherhood Day that will be promoted and implemented throughout Native American communities during the month of June 2013. The award will be made under ANA's program for Social and Economic Development Strategies.

DATES: The award will be issued for the time period of September 30, 2012 to September 29, 2013.

FOR FURTHER INFORMATION CONTACT: Carmelia Strickland, Director, Division of Program Operations, Administration for Native Americans, 370 L'Enfant Promenade SW., Washington, DC 20047. Telephone: 877-922-9262; Email: Carmelia.strickland@acf.hhs.gov.

SUPPLEMENTARY INFORMATION: NAFFA, located in Mesa, Arizona, is a Native non-profit organization whose mission is to strengthen Native Families by responsibly involving fathers in the lives of their children, families, and communities and partnering with mothers to provide happy and safe families.

Statutory Authority: This program is authorized under § 803(a) of the Native American Programs Act of 1974 (NAPA), 42 U.S.C. 2991b.

Lillian A. Sparks,
Commissioner, Administration for Native Americans.

[FR Doc. 2012-25018 Filed 10-10-12; 8:45 am]

BILLING CODE 4184-34-P